Title 3—

The President

Proclamation 9963 of November 7, 2019

Veterans Day, 2019

By the President of the United States of America

A Proclamation

On November 11, Americans commemorate the service, sacrifice, and immeasurable contributions of our Nation's veterans who have proudly worn our country's uniform to defend and preserve our precious liberty. As we celebrate Veterans Day, we pause to recognize the brave men and women who have fearlessly and faithfully worked to defend the United States and our freedom. Their devotion to duty and patriotism deserves the respect and admiration of our grateful Nation each and every day. We are forever thankful for the many heroes among us who have bravely fought around the world to protect us all.

As Americans, it is our sacred duty to care for and support those who have shown courage and conviction in selfless service to our country. Safeguarding the health and welfare of our Nation's veterans has been a top priority for my Administration. Last year, I was proud to sign into law the VA MISSION Act, the most significant reform to the Department of Veterans Affairs (VA) in more than 50 years. This historic legislation allows veterans to seek timely care from trusted providers within their communities. In 2018, I also signed the largest funding bill for the VA in history, securing $8.6 billion for veterans' mental health services, $400 million for opioid abuse prevention, and $270 million for rural veterans' health initiatives. Further, I recently signed a Presidential Memorandum directing the Department of Education to discharge some types of Federal student loans owed by totally and permanently disabled veterans.

We also must not forget or forsake our veterans in times of distress as they transition to civilian life. That is why I signed an Executive Order in March addressing veteran suicide, a solemn crisis that requires urgent national action. Through this step, we launched the President's Roadmap to Empower Veterans and End a National Tragedy of Suicide (PREVENTS), which is bringing together all levels of government and the private sector to improve the quality of life for our veterans, identify and assist veterans in need, and turn the tide on this tragic crisis.

Time after time, throughout the history of our Republic, veterans have defended our way of life with integrity, dedication, and distinction. In respectful recognition of the contributions our service members have made to advance peace and freedom around the world, the Congress has provided (5 U.S.C. 6103(a)) that November 11 of each year shall be set aside as a legal public holiday to honor our Nation's veterans. As Commander in Chief of our heroic Armed Forces, I humbly thank our veterans and their families for their willingness to answer the call of duty and for their unwavering love of country. Today, we pledge always to fight for those who have fought for us, our veterans, who represent the best of America. They deserve our prayers, our unending support, and our eternal gratitude.

NOW, THEREFORE, I, DONALD J. TRUMP, President of the United States of America, do hereby proclaim November 11, 2019, as Veterans Day. I encourage all Americans to recognize the fortitude and sacrifice of our veterans through public ceremonies and private thoughts and prayers. I call upon Federal, State, and local officials to display the flag of the United States and to participate in patriotic activities in their communities. I call on all Americans, including civic and fraternal organizations, places of worship, schools, and communities to support this day with commemorative expressions and programs.

IN WITNESS WHEREOF, I have hereunto set my hand this seventh day of November, in the year of our Lord two thousand nineteen, and of the Independence of the United States of America the two hundred and forty-fourth.

[FR Doc. 2019-24793

Filed 11-12-19; 11:15 am]

Billing code 3295-F0-P